DEPARTMENT OF ENERGY

Federal Energy Regulatory Commission

[Docket Nos. ER06-944-001, et al.]

M-S-R Public Power Agency, et al.; Electric Rate and Corporate Filings

June 16, 2006.

The following filings have been made with the Commission. The filings are listed in ascending order within each docket classification.

1. City of Anaheim, California

[Docket No. ER06-944-001]

Take notice that on May 18, 2006, City of Anaheim, California tendered for filing a Certificate of Concurrence regarding the filing by Public Service Company of New Mexico of the Amended and Restated San Juan Project Participation Agreement.

Comment Date: 5 p.m. Eastern Time on June 26, 2006.

2. Los Alamos County, New Mexico

[Docket No. ER06-944-001]

Take notice that on May 23, 2006, Los Alamos County, New Mexico tendered for filing a Certificate of Concurrence regarding the filing by Public Service Company of New Mexico of the Amended and Restated San Juan Project Participation Agreement.

Comment Date: 5 p.m. Eastern Time on June 26, 2006.

3. M-S-R Public Power Agency, et al.

[Docket No. ER06-944-001]

Take notice that on May 22, 2006, M-S-R Public power Agency, tendered for filing a Certificate of Concurrence regarding the filing by Public Service Company of New Mexico of the Amended and Restated San Juan Project Participation Agreement.

Comment Date: 5 p.m. Eastern Time on June 26, 2006.

4. Southern California Public Power Authority

[Docket No. ER06-944-001]

Take notice that on June 1, 2006, Southern California Public Power Authority tendered for filing a Certificate of Concurrence regarding the filing by Public Service Company of New Mexico of the Amended and Restated San Juan Project Participation Agreement.

Comment Date: 5 p.m. Eastern Time on June 26, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-9889 Filed 6-21-06; 8:45 am]

BILLING CODE 6717-01-P